PRIVACY AND CIVIL LIBERTIES OVERSIGHT BOARD

[Notice-PCLOB-2022-01; Docket No. 2022-0009; Sequence No. 1]

Notice of Public Forum

AGENCY: Privacy and Civil Liberties Oversight Board (PCLOB).

ACTION: Request for public comments and notice of public forum on domestic terrorism.

SUMMARY: The PCLOB or Board seeks public comments regarding, and will hold a public forum to consider, privacy and civil liberties issues concerning the government's efforts to counter domestic terrorism. The PCLOB seeks public comments regarding the following topics (described in more detail below): Implications for First Amendment-Protected Activities; Implications for Privacy and Fourth Amendment rights; Federal and State/Local/Tribal/Territorial (SLTT) Government Cooperation in Countering Domestic Terrorism; Use of Technology in Efforts to Combat Domestic Terrorism; Differential Impacts on Racial and Other Minority Groups; and any Other Privacy or Civil Liberties Implications Related to Domestic Terrorism. Additionally, the PCLOB will hold a virtual public forum to examine privacy and civil liberties issues regarding the government's efforts to counter domestic terrorism. During the forum, Board Members will hear a range of expert views.

DATES: The PCLOB plans to hold the public forum in late May or early June 2022. The exact date will be announced on www.pclob.gov by no later than Monday, April 25, 2022. PCLOB will consider all public comments received by Thursday, June 30, 2022.

The comment period will remain open beyond the public forum date to enable individuals to submit comments that reflect the presentations and discussion during the forum. However, commenters who seek to inform the final agenda for the Board's forthcoming virtual public forum, are requested to please submit comments on or before Monday, April 25, 2022.

ADDRESSES: The public forum will be held virtually. Instructions for how to attend the virtual forum will be posted to www.pclob.gov. The Board invites written comments regarding privacy and civil liberties in the domestic terrorism context. You may submit comments responsive to notice PCLOB-2022-01 via http://www.regulations.gov. Please search by Notice PCLOB-2022-01 and follow the on-line instructions for submitting comments. Responsive comments received generally will be posted without change to regulations.gov, including any personal and/or business confidential information provided. To confirm receipt of your comment(s), please check regulations.gov approximately two-to-three business days after submission to verify posting.

Comments may be submitted any time prior to the closing of the docket at 11:59 p.m., EDT, on Thursday, June 30, 2022.

FOR FURTHER INFORMATION CONTACT: Mason Clutter, Acting Executive Director at 202-296-4649; pao@pclob.gov.

SUPPLEMENTARY INFORMATION:

Procedures for Public Observation

The event is open to the public. Pre-registration is required. Registration instructions will be posted to www.pclob.gov. Individuals who plan to participate virtually and require special assistance should contact pao@pclob.gov at least 72 hours prior to the event. The Board welcomes comments on privacy and civil liberties issues related to any of the following topics, including potential recommendations for policy reforms:

Government Actions Against Domestic Terrorism: Authorities, Procedures, Safeguards, and Impacts on First Amendment-Protected Activities

Responsive comments should examine the authorities, procedures, and safeguards governing federal government action countering domestic terrorism when such action could affect protected First Amendment activity. Responsive comments may also address the effects of such government action on First Amendment activity, and what further safeguards, mitigations, or oversight may be needed. Examples include social media and internet surveillance, as well as surveillance of those exercising their rights of free expression and assembly.

Government Surveillance To Combat Domestic Terrorism: Authorities, Procedures, Safeguards, and Impacts on Privacy and Fourth Amendment Rights

Responsive comments should address the use of surveillance to combat domestic terrorism, including the authorities, procedures and safeguards that currently govern such surveillance, and the applicability of the Fourth Amendment and other legal protections for privacy. Responsive comments may also address what further safeguards, mitigations, or oversight may be needed to protect privacy.

Federal and State/Local/Tribal/Territorial (SLTT) Government Cooperation in Countering Domestic Terrorism

Responsive comments should examine the intersection of domestic terrorism activities and privacy and civil liberties implications at the Federal and the SLTT level, both directly (e.g., JTTFs, Fusion Centers) and indirectly (e.g., federal funds used to purchase SLTT surveillance capabilities; SLTT use of federal resources, etc.), including the following questions:

• What are the potential privacy and civil liberties issues raised by this cooperation?

• What safeguards, mitigations, or oversight may be needed to protect against potentially harmful effects?

Use of Technology in Efforts To Combat Domestic Terrorism

Responsive comments should examine the use of technology in investigating and countering domestic terrorism, including the following questions:

• How is the government using technology to counter domestic terrorism?

• Are the technologies and policies used to counter international terrorism being applied to domestic terrorism, either by the government or by private firms; and if so, what are the potential privacy and civil liberties implications for the American public?

• In what ways do private technology firms work with the government to counter domestic terrorism and does this raise further privacy and civil liberties issues?

• What challenges and opportunities, for countering domestic terrorism and for protecting privacy and civil liberties in counterterrorism programs, are created by current and likely future technology changes?

• What safeguards, mitigations, or oversight may be needed to protect against potentially harmful effects?

Differential Impacts on Racial and Other Minority Groups

Per Executive Order 13985 and PCLOB's efforts to enhance equity, the PCLOB seeks comments on potential differential impacts of countering domestic terrorism programs and policies on particular racial groups, historically underserved communities, religious groups, politically disfavored groups, and other individuals. Responsive comments should examine:

• To what extent do government efforts to combat domestic terrorism have differential impacts on particular racial groups, historically underserved communities, religious groups, politically disfavored groups, and other individuals?

• What safeguards, mitigations, or oversight may be needed to protect against potentially harmful effects?

Any Other Privacy or Civil Liberties Implications Related to Domestic Terrorism

The Board welcomes comments on any other privacy or civil liberties concerns related to domestic terrorism not listed above.

David Coscia,
Agency Liaison Officer, Office of Presidential & Congressional Agency Liaison Services, General Services Administration.

[FR Doc. 2022-07011 Filed 4-1-22; 8:45 am]

BILLING CODE 6820-B5-P